DEPARTMENT OF TRANSPORTATION

Federal Railroad Administration

Petition for Special Approval of Alternative Compliance

In accordance with Title 49 Code of Federal Regulations (CFR) 238.21, notice is hereby given that the Federal Railroad Administration (FRA) has received a request for special approval of alternative compliance, under 49 CFR 238.230, from the American Public Transportation Association (APTA). The individual petition is described below, including the party seeking relief, the regulatory provisions involved, the nature of the relief being requested, and the petitioner's arguments in favor of relief.

American Public Transportation Association

[Docket Number FRA-2007-0010]

APTA seeks FRA approval of an industrywide safety appliance standard for all newly manufactured passenger cars, in accordance with 49 CFR 238.230(d). This section provides a process by which a railroad or a railroad's recognized representative may request approval of safety appliance arrangements on any passenger car considered a car of special construction under 49 CFR 231.18. Asserting that it has become difficult to apply FRA's safety appliance regulations, contained in 49 CFR part 231, to modern passenger equipment, on September 4, 2007, APTA petitioned FRA for approval of APTA Standard SS-M-016-06, “Standard for Safety Appliances for Rail Passenger Cars,” as an alternative means to comply with 49 CFR part 231.

APTA has submitted a final copy of APTA Standard SS-M-016-06, together with a table that compares the APTA standard to FRA's safety appliance regulations contained in 49 CFR part 231 and drawings (referred to as plates) that reflect placement of safety appliances in accordance with the APTA standard. An annex has also been included in the APTA standard, which contains a sample car inspection checklist that could be used by railroads and car builders for quality control and to confirm proper design and installation of the safety appliances on newly manufactured passenger cars. All of these documents are available in Docket Number FRA-2007-0010, the docket for this proceeding, which can be accessed online at http://www.regulations.gov.

Written comments on this petition must be received by April 7, 2008. Comments received after that date will be considered to the extent possible without incurring additional expenses or delays. You may submit written comments and related information (identified by Docket Number FRA-2007-0010) by any of the following methods:

Web site: http://www.regulations.gov. Follow the online instructions for submitting comments.

Mail: Docket Management Facility, U.S. Department of Transportation, 1200 New Jersey Avenue, SE., West Building Ground Floor, Room W12-140, Washington, DC 20590.

Hand Delivery or Courier: West Building Ground Floor, Room W12-140, 1200 New Jersey Avenue, SE., between 9 a.m. and 5 p.m. EST, Monday through Friday, except Federal holidays.

Fax: 202-493-2251.

FRA anticipates being able to resolve this petition without a public, oral hearing. However, if FRA receives a specific request for a public, oral hearing prior to April 7, 2008, one will be scheduled, and FRA will publish a supplemental notice in the Federal Register to inform interested parties of the date, time, and location of any such hearing.

Anyone is able to search the electronic form of all comments received into any of our dockets by the name of the individual submitting the comment (or signing the comment, if submitted on behalf of an association, business, labor union, etc.). Note that all comments received will be posted without change to http://www.regulations.gov, including any personal information provided. You may review DOT's complete Privacy Act Statement in the Federal Register published on April 11, 2000 (65 FR 19477-78), or you may visit http://DocketsInfo.dot.gov.

Issued in Washington, DC on March 4, 2008.
Grady C. Cothen, Jr.,
Deputy Associate Administrator for Safety Standards and Program Development.

[FR Doc. E8-4521 Filed 3-6-08; 8:45 am]

BILLING CODE 4910-06-P